DEPARTMENT OF THE INTERIOR

Bureau of Land Management

[LLNVS03000 L51010000.ER0000 LVRWF0900290 241A; 10-08807; MO#4500012626; TAS: 14X5017]

Notice of Availability of the Draft Environmental Impact Statement for the NextLight Renewable Power, LLC, Silver State Solar Project, Primm, NV

AGENCY: Bureau of Land Management, Interior.

ACTION: Notice of availability.

SUMMARY: In accordance with the National Environmental Policy Act of 1969, (NEPA), the Bureau of Land Management (BLM) has prepared a Draft Environmental Impact Statement (EIS) for the Silver State Solar Project, Primm, Nevada, and by this Notice is announcing the opening of the comment period.

DATES: To ensure comments will be considered, the BLM must receive written comments on the Silver State Solar Project Draft EIS within 45 days following the date the Environmental Protection Agency publishes its Notice of Availability of this Draft EIS in the Federal Register. The BLM will announce future meetings or hearings and any other public involvement activities at least 15 days in advance through public notices, local news media, and the BLM Web site at: http://www.blm.gov/nv/st/en/fo/lvfo.html.

ADDRESSES: You may submit comments by any of the following methods:

• Web site: http://www.blm.gov/nv/st/en/prog/energy/fast-track_renewable.html.

• E-mail: nextlight_primm_nv_sep@blm.gov.

• Mail: Gregory Helseth, Renewable Energy Project Manager, BLM Pahrump Field Office, 4701 North Torrey Pines Drive, Las Vegas, Nevada 89130-2301.

Copies of the Draft EIS for the Silver State Solar Project are available in the Southern Nevada District Office at the above address.

FOR FURTHER INFORMATION CONTACT: Gregory Helseth, phone: 702-515-5173, e-mail: Gregory_Helseth@blm.gov.

SUPPLEMENTARY INFORMATION: NextLight Renewable Power, LLC applied to the BLM for a right-of-way on public lands to construct a solar photovoltaic (PV) plant facility approximately two miles southeast of Primm, Clark County, Nevada. The facility is expected to operate for approximately 50 years. The proposed project would produce 400 megawatts (MW) of renewable energy.

The solar field and infrastructure would consist of single-axis tracker systems or fixed panels, an underground and overhead electrical power collection system, two step-up transformers, 230 kilovolt (kV) and 220 kV transmission lines, an operation and maintenance area, a switchyard, paved access and maintenance roads, flood and drainage controls, and a fire break.

The Draft EIS describes and analyzes site-specific impacts of the proposed project on air quality; biological, cultural, water, soil, visual, paleontological, and geological resources; recreation; land use; noise; public health; socioeconomics; and traffic and transportation. The Draft EIS also addresses hazardous materials handling, waste management, worker safety, fire protection, facility design engineering, efficiency, reliability, transmission system engineering, transmission line safety, and nuisance.

The EIS analyzes three alternatives, including the no action alternative (Alternative 1) and two action alternatives. Alternative 2—the proposed action—would disturb up to 2,996 acres of land and would include the use of berms to reduce erosion. Alternative 3 would disturb up to 3,669 acres of land and would employ an alternate drainage and flood control design to control erosion. Both action alternatives would use solar PV technology, although the specific types of arrays and trackers have not been determined at this time. The Draft EIS describes the different types of solar arrays and trackers and their respective impacts.

Formal scoping for the project occurred from June 30, 2009 to July 31, 2009 (74 FR 31306). On September 17, 2009, the reopening of the comment period published with a new closing date of October 19, 2009 (74 FR 47820). A total of 33 comments were submitted during the scoping period. The comments identified concerns in a broad range of categories: surface water/storm runoff; off-highway vehicle access for recreation; federally-listed species and their habitat, including desert tortoise habitat and rare plants; alternatives for analysis.

Maps of the proposed project area and the alternatives being analyzed in the Draft EIS are available at the BLM Southern Nevada District Office.

Before including your address, phone number, e-mail address, or other personal identifying information in your comment, you should be aware that your entire comment—including your personal identifying information—may be made publicly available at any time; therefore, personal identifying information such as addresses, phone numbers, and e-mail address, may be withheld.

Authority: 40 CFR 1506.6 and 1506.10.

Robert B. Ross, Jr.,
Las Vegas Field Manager.

[FR Doc. 2010-8627 Filed 4-15-10; 8:45 am]

BILLING CODE 4310-HC-P